DEPARTMENT OF TRANSPORTATION

Federal Aviation Administration

14 CFR Part 39

[Docket No. 2001-NM-378-AD; Amendment 39-13091; AD 2003-06-04]

RIN 2120-AA64

Airworthiness Directives; Airbus Model A300 B2 and B4 Series Airplanes; and A300 B4-600, B4-600R, and F4-600R (Collectively Called A300-600) Series Airplanes

AGENCY: Federal Aviation Administration, DOT.

ACTION: Final rule.

SUMMARY: This amendment supersedes an existing airworthiness directive (AD), applicable to all Airbus Model A300 B4-600, B4-600R, and F4-600R (collectively called A300-600) series airplanes, that currently requires repetitive inspections to detect cracking of the upper radius of the forward fitting of frame 47, and repair if necessary. This amendment retains those requirements but shortens the initial compliance time and the repetitive inspection intervals. This amendment also expands the applicability to include additional airplanes. This amendment is prompted by issuance of mandatory continuing airworthiness information by a civil airworthiness authority. The actions specified by this AD are intended to detect and correct such fatigue cracking, which could result in propagation of the cracking to the rear fitting and reduced structural integrity of fuselage frame 47.

DATES: Effective May 1, 2003.

The incorporation by reference of Airbus Service Bulletins A300-53-6029, Revision 05, including Appendix 01, and A300-53-0246, Revision 03, including Appendix 03, both dated April 11, 2001, as listed in the regulations, is approved by the Director of the Federal Register as of May 1, 2003.

The incorporation by reference of Airbus Service Bulletin A300-53-6029, Revision 02, dated November 7, 1994, as listed in the regulations, was approved previously by the Director of the Federal Register as of October 16, 1996 (61 FR 47808, September 11, 1996).

ADDRESSES: The service information referenced in this AD may be obtained from Jacques Leborgne, Airbus Industrie Customer Service Directorate, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 96-18-18, amendment 39-9744 (61 FR 47808, September 11, 1996), which is applicable to all Airbus Model A300 B4-600, B4-600R, and F4-600R (collectively called A300-600) series airplanes, was published in the Federal Register on June 11, 2002 (67 FR 39900). That action proposed to retain the requirements of the existing AD but shorten the initial compliance time and repetitive inspection intervals. That action also proposed to expand the applicability to include additional airplanes.

Comments

Interested persons have been afforded an opportunity to participate in the making of this amendment. Due consideration has been given to the comments received.

Support for the Proposed AD

The commenters generally support the proposed AD, with the following recommended changes.

Request To Revise Compliance Time of Paragraph (b)(1)

Several commenters request that the compliance time of paragraph (b)(1) (applicable to Model A300-600 series airplanes) of the proposed AD be revised. The commenters state that the proposed wording would effect a compliance time more restrictive than that mandated in the corresponding French airworthiness directive. The commenters add that such a compliance time would penalize airlines for inspections done in compliance with the new proposed requirements that were accomplished before the effective date of the AD by requiring reinspection in 60 days.

Paragraph (b)(1) of the proposed AD is incorrect. The FAA had intended to match the compliance time of AD 96-18-18 with that mandated by the parallel French airworthiness directive 2001-355(B), dated August 8, 2001. Therefore, the compliance time in paragraph (b)(1) of this final rule has been revised to 6,100 flight cycles, with a grace period of 750 flight cycles/1,900 flight hours (whichever occurs first). This change does not result in a more restrictive inspection schedule than that of the proposed AD, and consequently does not impose an additional burden on any operator.

Request To Allow Flight With Cracks

Several commenters request that paragraphs (c) and (d) of the proposed AD be revised to allow temporary continued flight with cracks under certain conditions found during inspection. The commenters state that such a provision would provide the FAA with data to monitor airplanes with cracks and still allow a level of safety equivalent to that of the proposed AD. One commenter describes an inspection schedule based on crack length, agreed to by the FAA and the manufacturer.

The FAA partially agrees, but does not concur with the request to allow flight with known cracking in a major frame in a primary structure. The FAA finds it necessary to evaluate each crack finding on a case-by-case basis, and to require repair procedures or repetitive inspections based on that evaluation. The FAA may consider allowing flight with known cracks as an alternative method of compliance (AMOC), based on the configuration of the cracks and the operator's ability to safely monitor the cracks by inspection until a repair can be implemented. Given the expertise required to adequately monitor cracking conditions in a manner that ensures the safety of the public, the FAA would consider such a provision only as an AMOC. No change to the final rule is necessary regarding this issue. However, after operators' inspection findings have been validated, the FAA may consider issuing an AMOC with general applicability to all affected airplanes, provided Airbus can specify a comprehensive crack-monitoring program that reduces the need for direct FAA engineering involvement in individual crack-monitoring programs.

Request To Extend Compliance Time of Paragraph (a)(2)(ii)

Two commenters request that paragraph (a)(2)(ii) of the proposed AD be revised to reflect a compliance time of “750 flight cycles or 1,500 flight hours, whichever occurs first.” According to the commenters, the proposed 60-day grace period would result in economic hardship to operators. The commenters request the same grace period as that for Model A300 B2 and B4 series airplanes.

The FAA agrees. The grace period, inadvertently written in paragraph (a)(2)(ii) in the proposed AD as 60 days, has been revised in this final rule to 750 flight cycles/1,900 flight hours (whichever occurs first).

Request To Coordinate Compliance Times of Related ADs

Two commenters request that the proposed AD be revised to consider the effects of existing ADs that involve work in the same area. The commenters refer to three related ADs: AD 95-24-04, amendment 39-9436 (60 FR 58213, November 27, 1995); AD 97-16-06, amendment 39-10097 (62 FR 41257, August 1, 1997), as corrected (62 FR 44888, August 25, 1997); and AD 2002-11-04, amendment 39-12765 (67 FR 38193, June 3, 2002). The commenters propose a harmonized inspection threshold to take advantage of access, down time, and maintenance costs associated with the referenced ADs.

The FAA recognizes the potential value of a harmonized approach to address multiple inspections of the same general area based on other ADs, and will take the commenters' suggestion under advisement for future rulemaking actions. However, in this case the identified unsafe condition is an immediate concern properly addressed in a unique AD. Coordinating a comprehensive review of related ADs would further delay issuance of this AD, which, in any event, is not the proper forum to address such a review. No change to the final rule is necessary regarding this issue.

Request To Consider Repair Interference

Two commenters state that the proposed AD does not address the effect of any impingement of repairs (in case of a crack finding) on the inspection areas of various ADs in this area and/or interference between repairs. The FAA infers that the commenters are requesting that the proposed AD be revised to account for the potential effects of repairs that may have been done in the inspection area of this AD.

The details of the effect of other repairs relative to this AD are unknown, so the FAA cannot address the comment other than to state that this subject is discussed in Note 1 of the AD. Note 1 explains the implications and consequences of previous repairs in the subject area relative to compliance with the requirements of this AD. The FAA suggests that, for any deviations due to repairs in the affected area, each operator combine its compliance proposals into a single request for approval of an AMOC to reduce the number of requests for AMOCs this AD may generate. No change to the final rule is necessary regarding this issue.

Request To Allow New Repairs Based on Prior Approved Repairs

Two commenters request that the proposed AD be revised to “take credit for corrective actions (repairs/rework, etc.) in the subject area, approved by either [the FAA] or the DGAC” to “minimize the AMOC process and aircraft return to service.” The FAA infers that the commenters request approval for repair of newly discovered cracks based on previously approved repairs.

The FAA does not agree. Because of the nature of the cracking and the complexity of the area subject to the cracking, the FAA finds that a repair method that is appropriate for one crack configuration may not adequately address all possible crack configurations. The manufacturer has not issued a service bulletin that provides instructions for repair procedures. If such service information is developed and released, the FAA may issue further rulemaking to allow or require crack repair in accordance with that service bulletin. Until then, however, repairs must be approved through the AMOC process, as provided in paragraph (f)(1) of this AD. No change to the final rule is necessary regarding this issue.

Request To Add Service Information

Two commenters request that the proposed AD be revised to incorporate Airbus All Operators Telex (AOT) A300-53-6135, Revision 01, dated February 2002. The commenters state that the AOT provides information such as new reporting procedures, crack length clarification, and nondestructive test methods.

The FAA finds that the AOT would not add any significant meaningful information regarding the requirements of this AD. This AD has discussed reporting procedures and crack length clarification at some length. This AD generally prohibits continued flight with a known crack (unless certain conditions are met, as determined and approved by the FAA or the DGAC). As a result, the AOT provisions are not applicable or necessary. No change to the final rule is necessary regarding this issue.

Request To Cite Latest Service Bulletin Version

Two commenters request that the proposed AD be revised to cite the latest revision of Airbus Service Bulletin A300-53-6029 (which was cited in AD 96-18-18, at Revision 02, and in the proposed AD, at Revision 05, as the appropriate source of inspection information for Model A300-600 series airplanes). The commenters report that Revisions 06 and 07 (which have not been issued) of the service bulletin will include repair procedures. The commenters suggest that reference in the AD to a service bulletin repair will expedite affected airplanes' return to service and reduce the number of requests for AMOCs. One of the commenters requests that the proposed AD be revised to authorize repairs as terminating action for the repetitive inspections.

The FAA does not agree. As stated previously, the service bulletins do not contain repair instructions. Requiring accomplishment of any action in accordance with an as-yet unpublished service bulletin violates Office of the Federal Register regulations regarding approval of materials that are incorporated by reference. However, affected operators may request approval to use a later revision of the referenced service bulletin (if issued) as an AMOC, under the provisions of paragraph (f)(1) of the AD. If repair instructions are included in a revised service bulletin, the FAA may then consider issuing further rulemaking or an AMOC with general applicability to all affected airplanes. Further, terminating action will not be routinely granted as a part of each AMOC because of the complexity of the procedures required for inspection, measurement, and repair in the subject area. No change to the final rule is necessary regarding this issue.

Request To Clarify Paragraph (c) Requirements

One commenter requests clarification of the requirements of paragraph (c) of the proposed AD. The commenter finds the phrase “reinspect the airplane” nonspecific and potentially misleading, and recommends that the AD clearly identify the area of the airplane that is to be reinspected and the type of reinspection required if discrepancies are found.

The FAA agrees that clarification of the reinspection language would be helpful. Paragraphs (c) and (d) have been revised in this final rule to indicate that, as an option to repair, the FAA may approve reinspection—in accordance with the applicable service bulletin—within specific intervals.

Request To Include Repetitive Inspections in Reporting Requirement

One commenter requests that reports be required following each repetitive inspection specified in paragraph (b) of the proposed AD. The added data from the additional reports would increase the flow of valuable data to Airbus for better and more detailed understanding of the structural behavior and actual crack propagation.

It was the FAA's intent in paragraph (e) of the proposed AD to require a report following each repetitive inspection, as indicated by the phrase, “after each inspection required by paragraphs (a) and (d) of this AD.” Paragraph (b) of this AD merely sets forth the conditions and time interval for repeating the inspections of paragraph (a) of this AD. However, for clarification, paragraph (e) has been revised in this final rule to require a report following any inspection required specifically by paragraphs (a), (b), and (d) of this AD.

Request To Revise Reporting Requirement Compliance Time

One commenter requests that the proposed compliance time for submitting reports be extended. The commenter states that Airbus will be contacted for repair information immediately if cracks are found, and finds no advantage of requiring a report within 10 days if no cracks are found. The commenter suggests that a reporting compliance time of 30 days after any inspection would allow operators to process interval paper work and provide reports in the most organized and qualified manner.

The FAA concurs with the request and has revised paragraph (e) in this final rule to extend the reporting compliance time to 30 days. This compliance time represents an appropriate interval in which reports can be submitted in a timely manner within the fleet and still maintain an adequate level of safety.

Additional Change to Proposed AD

Because the language in Note 2 of the proposed AD is regulatory in nature, that note has been included in paragraph (a) of this final rule.

Interim Action

This is considered to be interim action. The manufacturer has advised that it is currently developing repair procedures that will address the identified unsafe condition and terminate the repetitive inspections. Once these procedures are developed, approved, and made available, the FAA may consider additional rulemaking.

Conclusion

After careful review of the available data, including the comments noted above, the FAA has determined that air safety and the public interest require the adoption of the rule with the changes previously described. The FAA has determined that these changes will neither increase the economic burden on any operator nor increase the scope of the AD.

Cost Impact

Approximately 127 airplanes of U.S. registry will be affected by this AD.

The inspection that is currently required by AD 96-18-18, and retained in this AD, takes approximately 4 work hours per airplane to accomplish, at an average labor rate of $60 per work hour. Based on these figures, the cost impact of the currently required actions is estimated to be $240 per airplane, per inspection cycle.

The new actions will take approximately 5 work hours per airplane to accomplish, at an average labor rate of $60 per work hour. Based on these figures, the cost impact of the new requirements of this AD on U.S. operators is estimated to be $38,100, or $300 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9744 (61 FR 47808, September 11, 1996), and by adding a new airworthiness directive (AD), amendment 39-13091, to read as follows:

2003-06-04 Airbus: Amendment 39-13091. Docket 2001-NM-378-AD. Supersedes AD 96-18-18, Amendment 39-9744.

Applicability: All Model A300 B2 and B4 series airplanes; and all Model A300 B4-600, B4-600R, and F4-600R (collectively called A300-600) series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

To detect and correct fatigue cracking of the upper radius of the forward fitting of fuselage frame 47, which could result in propagation of the cracking to the rear fitting and reduced structural integrity of frame 47, accomplish the following:

Model A300-600: Inspection

(a) For Model A300-600 series airplanes: At the earlier of the times specified by paragraphs (a)(1) and (a)(2) of this AD, perform an eddy current inspection to detect cracking of the upper radius of the left and right forward fitting of frame 47, in accordance with Airbus Service Bulletin A300-53-6029, Revision 02, dated November 7, 1994; or Revision 05, dated April 11, 2001. After the effective date of this AD, only Revision 05 of the service bulletin may be used. Accomplishment of an inspection before the effective date of this AD in accordance with Airbus Service Bulletin A300-53-6029, Revision 03, dated October 7, 1997, or Revision 04, dated October 25, 1999, is acceptable for compliance with the initial inspection requirements of paragraph (a) of this AD.

(1) Before the accumulation of 17,300 total flight cycles, or within one year after October 16, 1996 (the effective date of AD 96-18-18, amendment 39-9744), whichever occurs later.

(2) At the later of the times specified by paragraphs (a)(2)(i) and (a)(2)(ii) of this AD.

(i) Before the accumulation of 10,000 total flight cycles or 26,000 total flight hours, whichever occurs first.

(ii) Within 750 flight cycles or 1,900 flight hours, whichever occurs first after the effective date of this AD.

Model A300-600: Follow-On Inspections

(b) For Model A300-600 series airplanes on which no cracking is found during any inspection required by paragraph (a) of this AD:

(1) If the initial inspection was accomplished before the effective date of this AD, repeat the inspection at the later of the times specified in paragraphs (b)(1)(i) and (b)(1)(ii) of this AD. Thereafter, repeat the inspection at least every 6,100 flight cycles or 15,600 flight hours, whichever occurs first.

(i) Reinspect within 6,100 flight cycles after the initial inspection.

(ii) Reinspect within 750 flight cycles or 1,900 flight hours, whichever occurs first after the effective date of this AD.

(2) If the initial inspection was not accomplished before the effective date of this AD, repeat the inspection thereafter at least every 6,100 flight cycles or 15,600 flight hours, whichever occurs first.

Model A300-600: Corrective Action

(c) For Model A300-600 series airplanes on which any cracking is found during any inspection required by this AD: Before further flight, contact the Manager, International Branch, ANM-116, FAA, Transport Airplane Directorate; or the Direction Générale de l'Aviation Civile (DGAC) (or its delegated representative); for instructions regarding repair or for an applicable reinspection interval in accordance with Airbus Service Bulletin A300-52-6029, Revision 05, dated April 11, 2001. Repair and/or reinspection accomplished before the effective date of this AD in accordance with a method approved by the Manager, International Branch, ANM-116, is acceptable for compliance with the requirements of paragraph (c) of this AD.

Model A300 B2 and B4: Inspection and Follow-On Actions

(d) For Model A300 B2 and B4 series airplanes: At the applicable time specified in paragraph (d)(1), (d)(2), or (d)(3) of this AD, perform repetitive eddy current inspections to detect cracking of the upper radius of the forward fitting of frame 47, left and right sides, per Airbus Service Bulletin A300-53-0246, Revision 03, dated April 11, 2001. If any cracking is found: Before further flight, contact the Manager, International Branch, ANM-116, or the DGAC (or its delegated representative), for instructions regarding repair, or for an applicable reinspection interval in accordance with the service bulletin. This requirement terminates the corresponding inspection requirement of the A300 Supplemental Structural Inspection Document (SSID) for Model A300 B2 and B4 series airplanes. That SSID is mandated by AD 96-13-11, amendment 39-9679.

(1) For Model A300 B2 series airplanes: Perform the initial inspection at the later of the times specified by paragraphs (d)(1)(i) and (d)(1)(ii) of this AD. Repeat the inspection thereafter at least every 10,400 flight cycles or 13,300 flight hours, whichever occurs first.

(i) Before the accumulation of 16,500 total flight cycles or 21,000 total flight hours, whichever occurs first.

(ii) Within 1,000 flight cycles or 1,300 flight hours after the effective date of this AD, whichever occurs first.

(2) For Model A300 B4-100 series airplanes: Perform the initial inspection at the later of the times specified by paragraphs (d)(2)(i) and (d)(2)(ii) of this AD. Repeat the inspection thereafter at least every 8,500 flight cycles or 16,400 flight hours, whichever occurs first.

(i) Before the accumulation of 10,300 total flight cycles or 19,800 total flight hours, whichever occurs first.

(ii) Within 750 flight cycles or 1,500 flight hours after the effective date of this AD, whichever occurs first.

(3) For Model A300 B4-200 series airplanes: Perform the initial inspection at the later of the times specified by paragraphs (d)(3)(i) and (d)(3)(ii) of this AD. Repeat the inspection thereafter at least every 7,000 flight cycles or 13,600 flight hours, whichever occurs first.

(i) Before the accumulation of 11,000 total flight cycles or 21,200 total flight hours, whichever occurs first.

(ii) Within 750 flight cycles or 1,500 flight hours after the effective date of this AD, whichever occurs first.

Reporting Requirement

(e) At the applicable time specified in paragraph (e)(1) or (e)(2) of this AD: Submit a report of all results of each inspection required by paragraphs (a), (b), and (d) of this AD to Airbus Industrie, 1 Rond Point Maurice Bellonte, 31707 Blagnac Cedex, France, Attention Jacques Leborgne, fax 33-5-61-93-36-14. The report must include the inspection results, a description of any discrepancies found, the airplane serial number, and the number of landings and flight hours on the airplane. Information collection requirements contained in this AD have been approved by the Office of Management and Budget (OMB) under the provisions of the Paperwork Reduction Act of 1980 (44 U.S.C. 3501 et seq.) and have been assigned OMB Control Number 2120-0056.

(1) For airplanes on which the inspection is accomplished after the effective date of this AD: Submit the report within 30 days after performing the inspection.

(2) For airplanes on which the inspection has been accomplished before the effective date of this AD: Submit the report within 30 days after the effective date of this AD.

Alternative Methods of Compliance

(f)(1) An alternative method of compliance or adjustment of the compliance time that provides an acceptable level of safety may be used if approved by the Manager, International Branch, ANM-116. Operators shall submit their requests through an appropriate FAA Principal Maintenance Inspector, who may add comments and then send it to the Manager, International Branch, ANM-116.

(2) Alternative methods of compliance, approved previously in accordance with AD 96-18-18, amendment 39-9744, and AD 96-13-11, amendment 39-9679, are approved as alternative methods of compliance with the requirements of paragraphs (c) and (d) of this AD.

Note 2: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Incorporation by Reference

(h) Except as otherwise required by this AD, the actions must be done in accordance with Airbus Service Bulletin A300-53-0246, Revision 03, including Appendix 01, dated April 11, 2001; Airbus Service Bulletin A300-53-6029, Revision 05, including Appendix 01, dated April 11, 2001; and Airbus Service Bulletin A300-53-6029, Revision 02, dated November 7, 1994.

(1) The incorporation by reference of Airbus Service Bulletin A300-53-6029, Revision 05, including Appendix 01, dated April 11, 2001; and Airbus Service Bulletin A300-53-0246, Revision 03, including Appendix 01, dated April 11, 2001; is approved by the Director of the Federal Register in accordance with 5 U.S.C. 552(a) and 1 CFR part 51.

(2) The incorporation by reference of Airbus Service Bulletin A300-53-6029, Revision 02, dated November 7, 1994, was approved previously by the Director of the Federal Register, as of October 16, 1996 (61 FR 47808, September 11, 1996).

(3) Copies of these service bulletins may be obtained from Jacques Leborgne, Airbus Industrie Customer Service Directorate, 1 Rond Point Maurice Bellonte, 31707 Blagnac Cedex, France; fax (+33) 5 61 93 36 14. Copies may be inspected at the FAA, Transport Airplane Directorate, 1601 Lind Avenue, SW., Renton, Washington; or at the Office of the Federal Register, 800 North Capitol Street, NW., suite 700, Washington, DC.

Note 3: The subject of this AD is addressed in French airworthiness directive 2001-355(B), dated August 8, 2001.

Effective Date

(i) This amendment becomes effective on May 1, 2003.

Issued in Renton, Washington, on March 18, 2003.
Michael J. Kaszycki,
Acting Manager, Transport Airplane Directorate, Aircraft Certification Service.

[FR Doc. 03-6995 Filed 3-26-03; 8:45 am]

BILLING CODE 4910-13-P